DEPARTMENT OF LABOR

Employment and Training Administration

[TA-W-81,335]

Technicolor Creative Services, Post Production Feature Mastering Division Including On-Site Leased Workers From Ajilon Professional Staffing and KForce, Hollywood, CA; Notice of Affirmative Determination Regarding Application for Reconsideration

By application dated July 23, 2012, a state workforce agent requested administrative reconsideration of the negative determination (issued on June 28, 2012) regarding workers' eligibility to apply for Trade Adjustment Assistance (TAA) applicable to workers and former workers of Technicolor Creative Services, Post Production Feature Mastering Division, Hollywood, California (subject firm). The worker group also included on-site leased workers from Ajilon Professional Staffing and KForce. The workers are engaged in activities related to post-production services for films.

The initial investigation resulted in a negative determination based on the findings that Criterion (1) of Section 222(a) of the Trade Act of 1974, as amended (the Act), has not been met because a significant number or proportion of the workers at the subject firm have not become totally or partially separated, nor are they threatened to become totally or partially separated, and that the group eligibility requirements under Section 222(e) of the Act have not been met because the workers' firm has not been publically identified by name by the International Trade Commission as a member of a domestic industry in an investigation resulting in an affirmative finding of serious injury, market disruption, or material injury, or threat thereof.

In request for reconsideration, the petitioner provided new information regarding additional worker group separations.

The Department has carefully reviewed the request for reconsideration and the existing record, and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 1st day of August, 2012.
Del Min Amy Chen,
Certifying Officer, Office of Trade Adjustment Assistance.

[FR Doc. 2012-19913 Filed 8-13-12; 8:45 am]

BILLING CODE 4510-FN-P